ENVIRONMENTAL PROTECTION AGENCY

[EPA HQ-OECA-2012-0978; FRL-9820-2]

Access by United States Environmental Protection Agency (EPA) Contractors to Information Claimed as Confidential Business Information (CBI) Submitted under Clean Air Act (CAA), Title I, Programs and Activities Air, and Title II Emission Standards for Moving Sources, and Act To Prevent Pollution From Ships (APPS)

AGENCY: Environmental Protection Agency (EPA).

ACTION: Notice.

SUMMARY: The United States Environmental Protection Agency's (EPA's) Office of Enforcement and Compliance Assurance (OECA) plans to authorize various contractors to access information that will be submitted to EPA under the Clean Air Act (CAA) Titles I and II and the Act to Prevent Pollution from Ships (APPS) that may be claimed as, or may be determined to be, confidential business information (CBI). Access to this information, which is collected under the CAA Titles I and II and APPS, will begin on June 10, 2013.

DATES: EPA will accept comments on this Notice through June 10, 2013.

FOR FURTHER INFORMATION CONTACT: Jeffrey Kimes, Environmental Protection Agency, 1595 Wynkoop St., 8MSU, Denver, CO 80202; telephone number: (303) 312-6445; fax number (303) 312-6003; email address: kimes.jeffrey@epa.gov.

SUPPLEMENTARY INFORMATION:

I. Does this notice apply to me?

This action is directed to the general public. However, this action may be of particular interest to certain parties, including: motor vehicle manufacturers and importers; engine manufacturers and importers; motor vehicle fuel and fuel additive producers and importers; manufacturers, importers and distributors of motor vehicle and engine emission control equipment and parts; and any other parties subject to the regulations found in 40 CFR Parts 79, 80, 85, 86, 89-92, 94, 1033, 1039, 1042, 1043, 1045, 1048, 1051, 1054, 1060, 1065, and 1068.

This Federal Register notice may be of particular relevance to parties that have submitted data to EPA under the above-listed regulations. Because other parties may also be interested, EPA has not attempted to describe all the specific parties that may be affected by this action. If you have further questions regarding the applicability of this action to a particular party, please contact the person listed in FOR FURTHER INFORMATION CONTACT.

II. How can I get copies of this document and other related information?

A. Electronically

EPA has established a public docket for this Federal Register notice under Docket EPA HQ-OECA-2012-0978.

All documents in the docket are identified in the docket index available at http://www.regulations.gov. Although listed in the index, some information is not publicly available, such as CBI or other information for which disclosure is restricted by statute. Certain materials, such as copyrighted material, will only be available in hard copy at the EPA Docket Center.

B. EPA Docket Center

Materials listed under Docket EPA HQ-OECA-2012-0978 will be available for public viewing at the EPA Docket Center (EPA/DC), EPA West, Room 3334, 1301 Constitution Avenue NW., Washington, DC 20460. The EPA Docket Center Public Reading Room is open from 8:30 a.m. to 4:30 p.m., Monday through Friday, excluding legal holidays. The telephone number for the Reading Room is (202) 566-1744, and the telephone number for the Air Docket is (202) 566-1742.

III. Description of Programs and Potential Disclosure of Information Claimed as CBI to Contractors

EPA's OECA has responsibility for protecting public health and the environment by regulating air pollution from motor vehicles, engines, and the fuels used to operate them, and by encouraging travel choices that minimize emissions. In order to implement various Clean Air Act programs, and to give regulated entities flexibility in meeting regulatory requirements (e.g., compliance on average), OECA collects compliance reports and other information from the regulated industry. Occasionally, the information submitted is claimed to be CBI by persons submitting data to EPA. Information submitted under such a claim is handled in accordance with EPA's regulations at 40 CFR Part 2, Subpart B, and in accordance with EPA procedures that are consistent with those regulations. When EPA has determined that disclosure of information claimed as CBI to EPA contractors is necessary, the corresponding contract must address the appropriate use and handling of the information by the EPA contractor and the EPA contractor must require its personnel who require access to information claimed as CBI to sign written non-disclosure agreements before they are granted access to data.

In accordance with 40 CFR 2.301(h), we have determined that the contractors listed below require access to CBI submitted to EPA under Section 114 of the CAA, Section 208 of the CAA, and APPS, and we are providing notice and an opportunity to comment on EPA contractors' access to information claimed as confidential business information. OECA collects this data in order to monitor compliance with regulations promulgated under the Clean Air Act Title II Emission Standards for Moving Sources, APPS, and the International Convention for the Prevention of Pollution from Ships (MARPOL), Annex VI. We are issuing this Federal Register notice to inform all affected submitters of information that we plan to grant access to material that may be claimed as confidential business information to the contractors identified below on a need-to-know basis.

Under Contract Number EP-W-12-007, Eastern Research Group, Incorporated, 14555 Avion Parkway, Suite 200, Chantilly, VA, 20151 provides enforcement support for EPA's CAA mobile source regulatory and enforcement activities including field inspections, investigations, and audits that involve access to information claimed as confidential business information. Access to data, including information claimed as confidential business information, will commence on June 10, 2013, and will continue until March 5, 2017. If the contract is extended, this access will continue for the remainder of the contract without further notice.

Parties who wish to obtain further information about this Federal Register notice, or about OECA's disclosure of information claimed as confidential business information to contactors, may contact the person listed under FOR FURTHER INFORMATION CONTACT.

List of Subjects

Environmental protection; Confidential business information.

Dated: May 23, 2013.
Phillip A. Brooks,
Director, Air Enforcement Division, Office of Enforcement and Compliance Assurance, Office of Civil Enforcement.

[FR Doc. 2013-13343 Filed 6-4-13; 8:45 am]

BILLING CODE P